DEPARTMENT OF HOMELAND SECURITY

Bureau of Immigration and Customs Enforcement

Agency Information Collection Activities: Proposed Collection; Comment Request

ACTION: 30-Day Notice of Information Collection Under Review: The Student and Exchange Visitor Information Systems (SEVIS); File No. OMB-30.

The Department of Homeland Security, Bureau of Immigration and Customs Enforcement (ICE) has submitted the following information collection request to the Office of Management and Budget (OMB) for review and clearance in accordance with the Paperwork Reduction Act of 1995. The ICE published a notice in the Federal Register on October 2, 2003 at 68 FR 56847. The notice allowed for a 60-day public review and comment period on the extension of a currently approved information collection.

The purpose of this notice is to allow an additional 30 days for public comments to satisfy the requirements of the Paperwork Reduction Act for an extension of this information collection for a period not to exceed three years. Comments are encouraged and will be accepted until March 5, 2004. This process is conducted in accordance with 5 CFR 1320.10.

Written comments and/or suggestions regarding the items contained in this notice, especially regarding the estimated public burden and associated response time, should be directed to the Office of Management and Budget, Office of Information and Regulatory Affairs, Attention: Department of Homeland Security Desk Officer, 725 17th Street, NW., Room 10235, Washington, DC 20530.

Written comments and suggestions from the public and affected agencies concerning the proposed collection of information should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information collection:

(1) Type of Information Collection: Extension of a currently approved information collection.

(2) Title of the Form/Collection: The Student and Exchange Visitor Information System.

(3) Agency form number, if any, and the applicable component of the Department of Homeland Security sponsoring the collection: No Agency Form Number (File No. OMB-30); Bureau of Immigration and Customs Enforcement.

(4) Affected public who will be asked or required to respond, as well as a brief abstract: Primary: Individuals or Households. This system will be used by institutions and sponsors to provide notification, reports, updates, and data required by regulations on the institution and program, as well as on student and exchange visitors. Additionally, ICE and the Department of State will use SEVIS to adjudicate benefits and services, track student and exchange visitor data, and to monitor institution and program sponsor compliance with current regulations.

(5) An estimate of the total number of respondents and the amount of time estimated for an average respondent to respond: 625,135 applicants and 5 responses at 20 minutes (.333 hours) per response.

(6) An estimate of the total public burden (in hours) associated with the collection: 1,040,850 annual burden hours.

If you have additional comments, suggestions, or need a copy of the proposed information collection instrument with instructions, or additional information, please contact Richard A. Sloan (202) 514-3291, Director, Regulations and Forms Services Division, Citizenship and Immigration Services (CIS), U.S. Department of Homeland Security, Room 4034, 425 I Street, NW., Washington, DC 20536. Additionally, comments and/or suggestions regarding the item(s) contained in this notice, especially regarding the estimated public burden and associated response time may also be directed to Mr. Richard A. Sloan.

If additional information is required contact: Mr. Steve Cooper, PRA Clearance Officer, Office of the Chief Information Officer, U.S. Department of Homeland Security, Regional Office Building 3, 7th and D Streets, SW., Suite 4636-26, Washington, DC 20202.

Dated: January 30, 2004.
Richard A. Sloan,
Department Clearance Officer, Department of Homeland Security, Bureau of Citizenship and Immigration Services.

[FR Doc. 04-2303 Filed 2-3-04; 8:45 am]

BILLING CODE 4410-10-M